DEPARTMENT OF COMMERCE

National Oceanic and Atmospheric Administration

RI 0648-XI79

Caribbean Fishery Management Council; Public Hearings

AGENCY: National Marine Fisheries Service (NMFS), National Oceanic and Atmospheric Administration (NOAA), Commerce.

ACTION: Notice of public hearings.

SUMMARY: The Caribbean Fishery Management Council will hold public hearings to obtain input from fishers, the general public, and the local agencies representatives on the Draft Environmental Impact Statement (DEIS) amendment 4 to the Spiny Lobster Fishery Management Plan of Puerto Rico and the U.S. Virgin Islands.

DATES: The public hearings will be held from July 17, 2008 through July 22, 2008. See SUPPLEMENTARY INFORMATION for specific dates and times and locations.

FOR FURTHER INFORMATION CONTACT: Caribbean Fishery Management Council, 268 Munoz Rivera Avenue, Suite 1108, San Juan, Puerto Rico 00918-2577, telephone: (787) 766-5926.

SUPPLEMENTARY INFORMATION: The public hearings will be held on the following dates and locations:

• July 17, 2008, Mayaguez Resort and Casino, Rd. 104, Km. 0.3, Mayaguez, Puerto Rico

• July 18, 2008, Pierre Hotel at Gallery Plaza, De Diego Avenue, Santurce, Puerto Rico

• July 21, 2008, Frenchman's Reef and Morning Star Hotel, 5 Estate Bakkeroe, St. Thomas, USVI

• July 22, 2008, Caravelle Hotel, 44A Queen Cross St., Christiansted, St. Croix, USVI.

All meetings will be held from 7 p.m. to 10 p.m.

The Caribbean Fishery Management Council will hold Public Hearings to receive public input on a proposal Draft Environmental Impact Statement (DEIS) to establish a size limit for spiny lobster imports into the United States. This action would prohibit any person in the United States from importing spiny lobster:

-less than 5-ounces tail weight (5 ounces is defined as a tail that weighs 4.2-5.4 ounces) or compliance may be demonstrated by meeting the greater than 3-inch carapace length or 5.5-inch tail length.

-or if imported into Puerto Rico or the US Virgin Islands, less than 6.0-ounces tail weight (6 ounces is defined as a tail that weighs 5.9-6.4 ounces) or compliance may be demonstrated by meeting the 3.5-inch carapace length or 6.2-inch tail length.

-additionally, the importation of lobster tail meat without the exoskeleton (shell) attached, egg bearing female lobsters, or tails stripped of eggs would be prohibited.

Written comments must be received no later than August 11, 2008, in order to be considered by NOAA Fisheries. You may submit comments by any of the following methods:

-ELECTRONIC SUBMISSION E-MAIL: 0648-AV61.DEIS@noaa.gov

-FAX: (727) 824-5308

-MAIL: Jason Rueter, Sustainable Fisheries Division, Southeast Regional Office, NOAA Fisheries Service, 263, 13th Avenue South, St. Petersburg, FL 33701-5505.

When submitting fax or e-mail comments, include the following document identifier in the comment subject line: 0648-AV61. Attachments to electronic comments will be accepted in Microsoft Word, Excel, WordPerfect, or Adobe PDF file formats only.

Electronic copies of the DEIS may be obtained from the NOAA Fisheries Service Web site at http://sero.nmfs.noaa.gov/sf/SpinyLobsterAmendment.htm, or for a hard (paper) copy contact: Sustainable Fisheries Division, Southeast Regional Office, NOAA Fisheries Service 263, 13th Avenue South, St. Petersburg, FL 33701-5505.

Special Accommodations

These hearings are physically accessible to people with disabilities. For more information or request for sign language interpretation and other auxiliary aids, please contact Mr. Miguel A. Rolon, Executive Director, Caribbean Fishery Management Council, 268 Munoz Rivera Avenue, Suite 1108, San Juan, Puerto Rico 00918-2577, telephone: (787) 766-5926, at least 5 days prior to the meeting date.

Dated: June 30, 2008.
Tracey L. Thompson,
Acting Director, Office of Sustainable Fisheries, National Marine Fisheries Service.

[FR Doc. E8-15115 Filed 7-2-08; 8:45 am]

BILLING CODE 3510-22-S